DEPARTMENT OF TRANSPORTATION

Federal Aviation Administration

Aviation Rulemaking Advisory Committee Meeting on Air Carrier Operations

AGENCY: Federal Aviation Administration (FAA), DOT.

ACTION: Notice of meeting.

SUMMARY: The FAA is issuing this notice to advise the public of a meeting of the Federal Aviation Administration Aviation Rulemaking Advisory Committee to discuss air carrier operations issues.

DATES: The meeting will be held on August 15, 2000, at 2 p.m.

ADDRESSES: The meeting will be held in Conference Rooms 8A and B, Federal Office Building 10A (the “FAA Building”), 800 Independence Ave., SW, Washington, DC, 20591.

FOR FURTHER INFORMATION CONTACT: Mark Lawyer, Office of Rulemaking, 800 Independence Avenue, SW, Washington, DC 20591, telephone (202) 493-4531.

SUPPLEMENTARY INFORMATION: Pursuant to section 10(a)(2) of the Federal Advisory Committee Act (Pub. L. 92-463, 5 U.S.C. App II), notice is hereby given of a meeting of the Aviation Rulemaking Advisory Committee to be held on August 15, 2000. The agenda for this meeting will include a report from the Airplane Performance Working Group and presentation and request for approval of work plan by the Extended Range Operations of Airplanes (ETOPS) Working Group. Attendance is open to the interested public but may be limited by the space available. Members of the public must make arrangements in advance to present oral statements at the meeting or may present written statements to the committee at any time. Arrangements may be made by contacting the person listed under the heading FOR FURTHER INFORMATION CONTACT.

Sign and oral interpretation can be made available at the meeting, as well as an assistive listening device, if requested 10 calendar days before the meeting.

If you are in need of assistance or require a reasonable accommodation for this event, please contact the person listed under FOR FURTHER INFORMATION CONTACT.

Dated: Issued in Washington, DC, on July 25, 2000.
Gregory L. Michael,
Assistant Executive Director for Air Carrier Operations, Aviation Rulemaking Advisory Committee.

[FR Doc. 00-19399 Filed 7-31-00; 8:45 am]

BILLING CODE 4910-13-M